NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for a flight by a Beechcraft Queen Air 65 “Excaliber” to depart Punta Arenas, Chile, fly over the South Pole, land at Teniente Marsh Base (Frei Base) where it will overnight, and return to Punta Arenas, Chile. The application is submitted by World Flyers of Buena Vista, CO and submitted to NSF pursuant to regulations issued under the Antarctic Conservation Act of 1978.

DATES: Interested parties are invited to submit written data, comments, or views with respect to this permit application within October 31, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for conduct of a flight from South America, over the South Pole, landing at Teniente Marsh Base (Frei) on Deception Island, and returning to Punta Arenas, Chile. Air emissions will be released from the engine, and any liquid or solid waste will be stored on the aircraft and disposed of in South America.

The permit: Mickey Bob Russell, World Flyers, Buena Vista, CO. Permit application No. 2012 WM-005.

Nadene G. Kennedy,
Permit Officer.

[FR Doc. 2011-25226 Filed 9-29-11; 8:45 am]

BILLING CODE 7555-01-P